DEPARTMENT OF ENERGY

Office of Energy Efficiency and Renewable Energy

Request for Information for Photovoltaic Community Project: Fielded Photovoltaic Systems and Components Data

AGENCY: Office of Energy Efficiency and Renewable Energy, Department of Energy.

ACTION: Request for Information (DE-PS36-09GO39002).

SUMMARY: The Department of Energy (DOE) today gives notice of a Request for Information (RFI) to invite comment on approaches to address the need for consistently-collected reliability data of fielded photovoltaic systems, data analysis to deduce methods for assessing reliability and to improve accelerated aging tests to create predictive models, improvement in existing tests, more information on best practices for reliability and accelerated aging tests, and assessing the nature and frequency of safety-related issues (arcing, building integration aspects, and ground faults) and their relationship with long-term performance. It is clear that the foundation to address these needs is a database consisting of photovoltaic system and component reliability, as well as performance data, which are collected in a consistent manner. In addition to the database, it is necessary for DOE to collaborate with the national laboratories and others to evaluate the data, develop new or modified tests, assess safety, evaluate system and component interactions, and develop predictive models.

DOE is issuing this RFI for information and feedback from the PV community stakeholders. These include, but are not limited to, system operators and integrators, utilities, project planners, financial planners, manufacturers, third-party data-aggregation companies, universities, testing facilities, and other interested parties.

See the SUPPLEMENTARY INFORMATION section of this document, which provides further detail and comments requested.

DATES: Written comments must be received by 11:59 p.m. Eastern Time on December 17, 2008.

ADDRESSES: Send all responses to this RFI to PV.CommunityRFI@go.doe.gov in Microsoft Word format.

FOR FURTHER INFORMATION CONTACT: Questions regarding the content of the RFI must be submitted through the “Submit Question” feature in the DOE Industry Interactive Procurement System (IIPS) at http://e-center.doe.gov. Locate the RFI by going to http://e-center.doe.gov/, click on “Browse Opportunities,” and scroll down to view DOE Financial Assistance Opportunities (Viewing “Opportunities by Date Posted” is recommended). Click on the “Browse Financial Asst.” button, and then click on the folder next to “November 2008.” Locate and click on Announcement No. RFI DE-PS36-09GO39002, Request for Information (RFI): PV Community Project. Click on the “Submit Question” button. Enter required information. You will receive an electronic notification when your question has been answered. Please contact the IIPS Help Desk at 1-800-683-0751 (select Option 1) or at helpdesk@pr.doe.gov for questions regarding the operation of IIPS.

SUPPLEMENTARY INFORMATION: A major emphasis of the Department of Energy Solar Energy Technology Program (SETP) is achieving cost competitiveness and broad commercialization of solar electric technologies in the United States. The SETP is focusing primarily on two areas: (1) Research and development (R&D) on photovoltaic (PV) component and system designs, including low-cost approaches for manufacturing them; and (2) technology acceptance activities that address marketplace barriers and offer the opportunity for market expansion. Key elements in the market transformation are the ability to evaluate the performance and reliability of solar products and systems.

As noted in the SETP Multi-Year Program Plan ¹, system integrators, project planners, and the financial community need more rigorous data about overall system performance. System reliability, including service life prediction, is also essential for investment decisions. Manufacturers are also seeking techniques for quantifying the performance and reliability of their products and systems. During the Second Accelerated Aging Workshop (April 1-2, 2008) ² specific needs were identified. These inter-related needs include the following:

¹ SETP Multi-Year Program Plan 2008-2012; http://www1.eere.energy.gov/solar/pdfs/solar_program_mypp_2008-2012.pdf.

² Proceedings reported in “Accelerated Aging Testing and Reliability in Photovoltaics Workshop II Summary Report” are found at: http://www.eere.energy.gov/solar/solar_america/pdfs/accelerated_aging_report_2008.pdf.

• Consistently-collected reliability data of fielded systems;

• Data analysis to deduce methods for assessing reliability and to improve accelerated aging tests to create predictive models;

• Improve existing tests and provide more information on best practices for reliability and accelerated aging tests;

• Assessment of the nature and frequency of safety-related issues (arcing, building integration aspects, and ground faults) and their relationship with long-term performance.

Based upon these insights, there is a clear need for data to accomplish the following:

1. Document degradation rates for PV systems and components deployed in different climates/configurations:

—With the recent advances and the proliferation of module manufacturers, information is needed to (1) update understanding of degradation and failure rates; (2) link degradation to use environments, and (3) define specialized, feasible measurement approaches to the degradation rates for emerging technologies.

—Minimal data is available on degradation and failure rates for other PV system components, such as inverters, wiring, trackers, etc.

2. Document failures observed for PV systems and system components deployed in different climates/ configurations:

—Documented, consistent data about system/component performance, maintenance events, and the related cost will establish an understanding about deployed systems or components. System components would include all elements of the system.

3. Define “use conditions”:

—Data may support further categorization of PV system or system component degradation according to “use conditions,” which may differ from the climate zones defined in existing standards such as IEC 60721.

4. Establish technical basis for testing methods and codes and standards.

—Data collected from fielded systems by a consistent method may improve understanding of use conditions for systems and/or components.

—Consistent data can support the development of appropriate codes and standards for the industry.

Proposed Strategy

The intent of this RFI is to invite comment on approaches to address the needs described above. The foundation to address these needs is a database consisting of photovoltaic system and component reliability data, as well as performance data, which are collected in a consistent manner. In addition to a database, it is necessary for DOE to collaborate with national laboratories and others to evaluate the data, develop new or modified tests, assess safety, evaluate system and component interactions, and develop predictive models. The following describes a possible approach.

Other ideas are encouraged.

Proposed Topic

Consistently collect performance and reliability data about fielded systems and their components, in a range of locales over an extended period of time. Large and small systems would be of interest.

• To develop or verify predictive performance and reliability models to better understand system and component interactions in collaboration with the national laboratories and others;

• To evaluate module degradation and failure rates of fielded modules in a range of use conditions in collaboration with the national laboratories and others.

Proposed Tasks To Accomplish This Topic Are:

Task 1: System Selection: Systems must be fielded and commercially available. Small-scale systems based on prototypes would be optional. A range of technologies, system sizes, and diverse locales are required. It is also desirable that system owners and site operators will be willing to provide access to research teams to permit on-site measurements. It may be desirable to swap out components for detailed laboratory characterization. In these cases, arrangements for spare components would be necessary to minimize impacts on system operation.

Task 2: Data Monitoring: Use standardized methods for all sites to collect information about system and component performance, reliability, and maintenance.

Task 3: Database: Establish and maintain database.

Task 4: Data Analysis and Reporting. Conduct data review, and periodic consolidation, analysis and reporting of the findings, recommendations and next steps.

Approach

Three alternative approaches have been identified.

Alternative 1: Funding Opportunity Announcement (FOA) (for Grants or Cooperative Agreements)

DOE could issue a competitive FOA for applications, with Applicants providing access to their deployed systems and components to collect performance, reliability, and maintenance data according to established protocols. Such a FOA may involve system integrators, operators, or others offering access to systems, possibly a third party for data collection and aggregation, and collaboration with the national laboratories and others for testing, and the national laboratories for data analysis and storage, all accomplished in a consistent, coordinated project.

Alternative 2: Non-Competitive Collaborative R&D

The national labs could negotiate individual, non-competitive arrangements with selected participants (companies, test labs, and/or universities) regarding the relative roles and commitments of the various parties to achieve the stated objectives. Negotiations would be on a case-by-case basis, with the national laboratories in the lead coordinating role, based upon their planned work for the DOE SETP in their Annual Operating Plans.

Alternative 3: DOE/SETP Acquisition

A DOE acquisition process could be used to acquire access to PV systems for the purpose of installing data collection equipment, collecting system performance, reliability, and maintenance data, and monitoring the system. An acquisition could include services to implement the data collection. Data could be collected by a site custodian, a third party, a national laboratory team, or a combination of options.

In all cases the data collected would be analyzed to establish capabilities by a national laboratory team, in which DOE has already invested. Opportunities would exist for additional collaboration with other testing facilities to participate in achieving the common goals. Results would be made public in a summary form that would not be identifiable by system or manufacturer. Participants in the project would be given the summary information, along with their particular system/component data. This would offer them the benefit of knowing how their specific use condition compares with others under a particular set of criteria. Those not in the program will have access to the summary public information.

Request for Information Guidelines

Respondents are asked to specifically comment on the above proposed strategy, and the questions below. Respondents are free to comment on the general concept, potential benefits or obstacles, the overall merits of this idea, other alternatives, and the relative priority of this activity.

DOE will evaluate responses to this RFI to determine the best approach to move forward. If a FOA or an acquisition process is warranted, DOE would formulate the content based on these comments and program needs. DOE may determine that a FOA or an acquisition process is NOT needed, and that companies will make individual arrangements with the national laboratories.

Questions

(1) Motivation: Would industry be willing to participate in such a program and what would participants expect or require? In addition to the benefits mentioned, are there other useful financial and/or project outcomes?

(2) Requirements: Are there any special requirements or considerations an entity must have in order to participate?

(3) Needs: Are the stated needs appropriate? Is the list complete, or are there additional needs? What additional needs could be addressed by a consistent performance and reliability database? How long should the data collection project last, e.g., 1 year, 5 years, other?

(4) Priorities: Are there other priorities instead of, or in addition to, those identified? How would they be ranked?

(5) Data: What are specific suggestions about what data is needed? A continuous data stream consolidated into specific intervals is envisioned. Is this appropriate? Suggestions about the data collection instrumentation and methodology are welcomed.

(6) Topic: Is the topic appropriate? Are there other topics that should be included and why?

(7) Tasks: Are the tasks appropriate? Are there other tasks that should be included and why?

(8) Critical Milestones: What critical milestones are recommended to measure the success of this effort and why?

(9) Approach: Of the Alternatives to implement this effort, is there one that would be the most useful? Are there other, more expedient approaches to achieving the objectives? Please describe.

(10) Confidentiality: DOE has procedures for maintaining data confidentiality, and creating a firewall so the data is not subject to the Freedom of Information Act (FOIA). Is this essential? Are there specific concerns that could be addressed on an individual basis?

(11) Costs: What would be the estimated costs of the different alternatives?

DOE will not pay for information provided under this Request for Information (RFI), and there is no guarantee that a project will be supported as a result of this RFI. This RFI is not accepting applications for financial assistance or financial incentives. Response to the RFI will not be viewed as a binding commitment for the respondent to develop or pursue the project or ideas discussed. DOE may also decide at a later date to issue Funding Opportunity Announcements (FOAs), based on consideration of the input received from this RFI.

Respondents are requested to provide the following information in their submission of comments in response to this RFI.

• Company/institutional name, Company/institutional contact.

• Address, phone number, e-mail address.

• Type of business or institution.

Responses should be limited to 5 pages. However, more than one response is allowed. Please identify your answers by responding to a specific question or topic if possible. We welcome other comments as well. Identifying the comment with the item it refers to will facilitate aggregating all the responses. Any information obtained as a result of this RFI is intended to be used by the Government on a non-attribution basis for program planning and procurement strategy development. Information or data that is restricted in any way or limited for use by the government is not solicited and will not be considered. Please do not respond with any information you deem proprietary or confidential.

The Department will not respond to those who submit comments, and/or give any feedback on any decision made based on the comments received, as there is potential for a future Funding Opportunity relative to this subject, informed by the total comments received.

The Department thanks you for your assistance and comments.

Issued in Golden, CO, on November 21, 2008.
Matthew A. Barron,
Acting Assistant Manager, OAFA, DOE-Golden Field Office.

[FR Doc. E8-28938 Filed 12-5-08; 8:45 am]

BILLING CODE 6450-01-P